DEPARTMENT OF COMMERCE

International Trade Administration

Applications for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before December 3, 2007. Address written comments to Statutory Import Programs Staff, Room 2104, U.S. Department of Commerce, Washington, D.C. 20230. Applications may be examined between 8:30 a.m. and 5 p.m. at the U.S. Department of Commerce in Room 2104.

Docket Number: 07-062. Applicant: Battelle Memorial Institute, Pacific Northwest Division, 902 Battelle Blvd., Richland, WA 99354. Instrument: Electron Microscope, Model FIB/SEM. Manufacturer: FEI Company, Netherlands. Intended Use: The instrument is intended to be used for all science disciplines from biological to material science samples. The Environmental Molecular Science Laboratory, where the instrument will be housed, is a National Scientific User Facility and any scientist may use the laboratory and this instrument for free as long as they agree to publish their findings. The instrument will be used to support the ongoing science of interfacial phenomena, nanotechnology and catalysts interaction, along with other studies. Application accepted by Commissioner of Customs: October 26, 2007.

Docket Number: 07-063. Applicant: University of California San Diego, National Center for Microscopy and Image Research, 9500 Gilman Drive, MC 0608, Basic Science Building, Room 1000, La Jolla, CA 92093-0608. Instrument: Electron Microscope, Model Titan 80-300 C-Twin STEM. Manufacturer: FEI Company, Netherlands. Intended Use: The instrument is intended to be used to study biological specimens prepared for electron microscopic imaging and involves the elucidation of the 3D structural information of target materials. Project investigations span basic and translational science, including neuroscience, neurodegenerative diseases, heart disease, stroke, etc. Application accepted by Commissioner of Customs: November 2, 2007.

Docket Number: 07-066. Applicant: St. Jude Children's Research Hospital, 332 North Lauderdale, Memphis, TN 38105. Instrument: Electron Microscope, Model Tecnai G² F20 TWIN. Manufacturer: FEI Company, Netherlands. Intended Use: The instrument is intended to be used to study the intracellular components of biological samples obtained from mice, rats, cell cultures, viruses, bacteria and particulate material. The study will perform experiments using genetically altered mice and rats to better understand the mechanism involved in cancer at the intracellular level. Application accepted by Commissioner of Customs: October 29, 2007.

Docket Number: 07-067. Applicant: National Institute for Occupational Safety and Health, 4676 Columbia Parkway, Cincinnati, OH 45226. Instrument: Electron Microscope, Model JEM-2100F. Manufacturer: Jeol Ltd., Japan. Intended Use: The instrument is intended to be used for multiple research projects throughout the Institute. Applications include analysis of asbestos and other fiber types, nanotechnology-related materials (e.g., carbon nanotubes and fibers, tungsten fibers, metal oxides), aerosol research, ultrafine particles emissions, general support for laboratory and field research, methods development, and evaluation of engineering controls and personal protective equipment. Application accepted by Commissioner of Customs: October 30, 2007.

Dated: November 6, 2007.
Faye Robinson,
Director, Statutory Import Programs Staff.

[FR Doc. E7-22151 Filed 11-9-07; 8:45 am]

BILLING CODE 3510-DS-S